DEPARTMENT OF AGRICULTURE

Forest Service

Lime Kiln Timber Sale, Beaverhead-Deerlodge National Forest, Silver Bow County, MT

AGENCY: Forest Service, USDA.

ACTION: Notice; intent to prepare environmental impact statement.

SUMMARY: The Forest Service will prepare an environmental impact statement to document the analysis and disclose the environmental impacts of proposed actions to manage vegetation through timber harvest and prescribed burning in the Roosevelt Drive and Lime Kiln areas of the Highland Mountains. The project area is located approximately 10 miles south of Butte, MT.

The Forest Service proposes to selectively treat approximately 366 acres of sawtimber and post and poles, predominantly mature Douglas-fir and lodgepole pine. Approximately .5 mile of temporary road construction is proposed to access the harvest units. Additionally, .6 mile of existing dead-end spur roads would be closed within 5 years of the vegetative treatments.

DATES: Comments concerning the scope of the analysis should be received in writing by July 5, 2001.

ADDRESSES: Send written comments to Bruce Schuelke, Butte Ranger District, 1820 Meadowlark, Butte, MT 59701.

FOR FURTHER INFORMATION CONTACT: Bruce Schuelke, Interdisciplinary Team Leader, (406) 494-0241.

SUPPLEMENTARY INFORMATION: The primary purpose of this proposal is to maintain a healthy Lodgepole Pine and Douglas-Fir overstory. The desired condition would be more resistant to catastrophic fires; to promote vegetation components that evolved ecological with disturbance; and to reduce the risk of insect infestations. The proposal would encourage aspen re-establishment through harvesting and underburning; and is designed to reduce the overall sedimentation in Backtail Creek. The proposal would harvest timber in two areas using commercial thinning, clearcutting and sanitation salvage. Approximately 3,000 CCF of sawtimber and approximately 36,000 posts and poles would be harvested.

The project tiers to the National Fire Plan by reducing hazardous fuels along the wildland-urban interface. This project levels EIS will tier to the Deerlodge National Forest Land and Resource Management Plan (Forest Plan) and incorporate by reference the Forest Plan (September 1987), which provides overall guidance of all land management activities on the Beaverhead-Deerlodge National Forest, including timber. This project was previously analyzed as Lime Kiln Timber Sale E.A.

Public participation is important to the analysis. Part of the goal of public involvement is to identify additional issues and to refine the general tentative issues. To date, over 200 letters were sent to interested people, adjacent landowners, organizations, business, as well as Federal, State, County, and Tribal organizations. Two field trips were held in the summers of 1996 and 1997. Comments from the public and other agencies are being used to prepare the Draft EIS. The scoping process to date has identified potential issues; identified major issues to be analyzed in depth, and eliminated minor issues or those that have been covered by a relevant previous environmental analysis. Public comments received during initial scooping identified the following issues: effects to wildlife habitats, visual quality, recreation, economic impacts, and adjacent private land. Potential alternatives may harvest less timber, or emphasize harvest in other areas.

During the scoping process, the Forest Service is seeking additional information and comments from Federal, State, and local agencies and other individuals or organizations who may be interested in or affected by the proposed action. The United States Fish and Wildlife Service will be consulted concerning effects to threatened and endangered species. The agency invites written comments and suggestions on this action, particularly in terms of identification of issues and alternative development.

The Beaverhead-Deerlodge National Forest is the lead agency for this proposal. The Forest Supervisor for the Beaverhead-Deerlodge National Forest, 420 Barrett Street, Dillon, MT 59725 will be making the decision on this action. The draft should be available for review in September 2001 and the final EIS is scheduled for completion in November 2001.

The comment period on the draft environmental impact statement will be 45 days from the date the Environmental Protection Agency publishes the notice of availability in the Federal Register.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council of Environmental Quality Regulations for implementing the procedural provisions of the National Environmental Policy Act at 40 CFR 1503.3 in addressing these points.).

Dated: May 23, 2001.
Janette S. Kaiser,
Forest Supervisor.

[FR Doc. 01-13615 Filed 5-30-01; 8:45 am]

BILLING CODE 3410-11-M